DEPARTMENT OF THE INTERIOR

Bureau of Land Management

Notice of Intent To Prepare a Land Use Plan Amendment and Environmental Assessment

AGENCY: Bureau of Land Management, Arizona State Office.

ACTION: Notice of intent to prepare a Land Use Plan Amendment (LUP) and Environmental Assessment (EA).

SUMMARY: This document provides notice that the Bureau of Land Management (BLM), Arizona (AZ) State Office intends to prepare an Arizona Statewide Land Use Plan Amendment to incorporate current fire management policy and to prepare an Environmental Assessment that will amend seven land use plans. These plans are: Arizona Strip District Resource Management Plan (RMP) (1992), Kingman RMP (1995), Lower Gila North Management Framework Plan (MFP) (1983), Lower Gila South RMP (1988), Phoenix RMP (1989), Safford RMP (1992 and 1994) and Yuma RMP (1986 and 1987). The purpose of the Arizona Statewide LUP Amendment is to establish consistent methods of managing Arizona wildland fire across the state and among the various agencies and groups who participate in wildland fire fighting, ecology, and management, while at the same time allowing appropriate and fire-safe enjoyment of BLM-administered lands in Arizona. The amendment will result in a consistent approach to incorporating the National Fire Policy in land use plans.

This planning activity encompasses approximately 12 million surface acres of public land. The action is being conducted under the authority of BLM Planning Regulation 43 CFR, 1610 and will fulfill the needs and obligations set forth by the National Environmental Policy Act (NEPA), the Federal Land Policy and Management Act (FLPMA), and BLM management policies. This collaborative process will take into account local, regional, and national needs and concerns by involving other federal agencies, Native American tribes, conservation groups, recreationists, the public, and other stakeholders throughout the planning process.

This plan amendment will analyze fires and fuels management actions and their impacts on the human environment for the seven BLM field offices in one document in order to ensure consistency and collaboration of the interested publics. An EA-level analysis and Finding of No Significant Impact (FONSI) are anticipated, followed with an approved plan amendment and Decision Record (DR).

DATES: The public comment period commences with the publication of this notice. Public meetings will be held throughout the plan scoping and preparation period and will tentatively be held in February and March of 2003. In order to ensure local community participation and input, BLM will rotate public meetings among towns in the planning area, which include the metro-Phoenix, Kingman, Lake Havasu, Yuma, Tucson, and Safford, Arizona; and St. George, Utah. BLM encourages early participation by all those interested so that they can determine the future management of the public lands. At least 15 days public notice will be given for activities where the public is invited to attend, and meetings and comment deadlines will be announced through the local news media, newsletters, and the BLM Web site (http://www.az.blm.gov). The minutes and list of attendees for each meeting will be available to the public and open for 30 days to any participant who wishes to clarify the views they expressed. Written comments will be accepted throughout the planning process. In addition to the ongoing public participation process, formal opportunities for public participation will be provided upon publication of the EA.

ADDRESSES: Written comments should be sent to: AZ LUP Fire, Fuels and Air Quality Amendment Planning, Bureau of Land Management, 222 North Central, Phoenix, AZ 85002-2203. Use the above address to mail or hand-deliver written comments; additionally, comments can be faxed to (928) 692-4414. Comments, including names and street addresses of respondents, will be available for public review at the BLM Arizona State Office at the above address during regular business hours, 7:30 a.m. to 4:30 p.m., Monday through Friday, except holidays, and may be published as part of the EA. Documents relevant to the planning effort may be examined during normal business hours, Monday through Friday, at the BLM Arizona State Office at the above address. Individual respondents may request confidentiality. If you wish to withhold your name or street address from public review or from disclosure under the Freedom of Information Act, you must state this prominently at the beginning of your comment. Such requests will be honored to the extent allowed by law. All submissions from organizations and businesses, and from individuals identifying themselves as representatives or officials of organizations or businesses, will be available for public inspection in their entirety.

FOR FURTHER INFORMATION: For further information and/or to have your name added to our mailing list, contact Sherry Hirst, Kingman Field Office, 2475 Beverly Avenue, Kingman, AZ 86401, telephone (928) 692-4435.

SUPPLEMENTARY INFORMATION: During the planning process, the BLM will consider appropriate management response to wildland fires as well as how prescribed fire can be used to help achieve resource objectives and to reduce dangerous accumulations of hazardous fuels. The amendment will emphasize appropriate response to wildland fires based on a consideration of firefighter and public safety, threats to private property, anticipated suppression costs, resource values at risk, resource benefits, the return of fire as a process to ecosystems, public attitudes and behavior regarding wildland fire hazards, and political and social concerns. Other issues that will be addressed include: hazardous fuels as an issue, and the use of prescribed fire, mechanical treatment, and/or chemical treatment(s) to reduce and/or manage hazardous fuels; hazardous fuels in the Wildland Urban Interface (WUI) and associated issues, and the various tools to approach these issues; appropriate management response, including managing natural fire starts for resource benefit; a statewide programmatic emergency fire rehabilitation plan; and air quality analysis.

Each year, the BLM responds to wildland fires that burn thousands of acres of land for which BLM has fire protection responsibility. The BLM has wildland fire protection responsibility on more than 12 million acres of public land in Arizona. By agreement, the BLM also protects approximately 9 million acres of other federal and state agency lands in Arizona.

Recent fire history statistics demonstrate the connection between past fire management practices and threats to human life and safety, risk of severe wildland fire, and disruption of critical ecological processes. The deaths of 34 firefighters during the 1994 fire season emphasized the danger that fuels accumulation poses to firefighters, and led to the 1995 Federal Wildland Fire Management Policy and Program. The effect of severe wildland fire on resource values is an additional concern to resource-management agencies. In 2002, wildland fires raged across Arizona, with over 600,000 of acres impacted, the largest number of acres to be impacted by wildland fire in the states history. Nationally, more acres burned in 2002 than in any other year in the last half-century.

BLM personnel, other agencies, individuals and user groups have identified preliminary issues and management concerns. Additional issues and modifications to known issues will be identified during public scoping. The major issues identified so far include management of public land resources including natural resource management; cultural resource management and protection; recreation/visitor use and safety; management of grazing, and other uses; as well as integration of public land management with the local community, tribal groups, and other agency needs and plans.

After gathering public comments on what issues the plan should address, BLM will place the suggested issues in one of three categories and provide an explanation for each issue placed into category two or three:

1. Issues to be resolved in the plan;

2. Issues resolved through policy or administrative action; or

3. Issues beyond the scope of this plan.

The public is encouraged to help identify planning issues and concerns during the scoping phase.

An interdisciplinary approach will be used to develop the plan in order to consider the variety of resource issues and concerns identified. Disciplines involved in the planning process will include but not limited to rangeland management, outdoor recreation, fire, archaeology, wildlife, wilderness, hydrology, soils, sociology, and economics.

Frank B. Miller,
Acting Deputy State Director Resources, Arizona BLM State Office.

[FR Doc. 03-1740 Filed 1-24-03; 8:45 am]

BILLING CODE 4310-32-P